DEPARTMENT OF LABOR

Employment and Training Administration

[TA-W-52,689]

Alkahn Labels, Jac-Arts Division, Cochran, GA; Notice of Termination of Investigation

Pursuant to section 221 of the Trade Act of 1974, an investigation was initiated on August 27, 2003, in response to a petition filed by a company official on behalf of workers at Alkahn Labels, Jac-Arts Division, Cochran, Georgia.

The petitioner has requested that the petition be withdrawn. Consequently, the investigation has been terminated.

Signed in Washington, DC, this 4th day of September, 2003.
Richard Church,
Certifying Officer, Division of Trade Adjustment Assistance.

[FR Doc. 03-27574 Filed 10-31-03; 8:45 am]

BILLING CODE 4510-30-P